DEPARTMENT OF THE INTERIOR

Bureau of Ocean Energy Management, Regulation and Enforcement

Outer Continental Shelf (OCS), Western and Central Planning Areas, Gulf of Mexico (GOM) Oil and Gas Lease Sales for the 2007-2012 5-Year OCS Program

AGENCY: Bureau of Ocean Energy Management, Regulation and Enforcement (BOEMRE), Interior.

ACTION: Correction—Notice of Intent to Prepare a Supplemental Environmental Impact Statement. This Notice corrects clerical errors in a Notice that published in the Federal Register on November 10, 2010 (75 FR 69122).

1. Authority

This Notice of Intent (NOI) is published pursuant to the regulations (40 CFR 1501.7) implementing the provisions of the National Environmental Policy Act (NEPA) of 1969 as amended (42 U.S.C. 4321 et seq. (1988)).

2. Purpose of the Notice of Intent

BOEMRE is announcing its intent to prepare a supplemental environmental impact statement (SEIS) for the remaining Western Planning Area (WPA) and Central Planning Area (CPA) lease sales in the 2007-2012 5-Year OCS Program. The proposed sales are in the Gulf of Mexico's WPA off the States of Texas and Louisiana and in the CPA off the States of Texas, Louisiana, Mississippi, and Alabama. The SEIS will update the environmental and socioeconomic analyses in the Gulf of Mexico OCS Oil and Gas Lease Sales: 2007-2012; WPA Sales 204, 207, 210, 215, and 218; CPA Sales 205, 206, 208, 213, 216, and 222, Final Environmental Impact Statement (OCS EIS/EA MMS 2007-018) (Multisale EIS), the NOI for which was published in the Federal Register on March 7, 2006 (Vol. 71, No. 44, Page 11444). The SEIS will also update the environmental and socioeconomic analyses in the GOM OCS Oil and Gas Lease Sales: 2009-2012; CPA Sales 208, 213, 216, and 222; WPA Sales 210, 215, and 218; Final SEIS (OCS EIS/EA MMS 2008-041), the NOI for which was published in the Federal Register on September 10, 2007 (Vol. 72, No. 174, Page 51654). The SEIS for 2009-2012 was prepared after the Gulf of Mexico Energy and Security Act (Pub. L. 109-432, December 20, 2006) required BOEMRE to offer approximately 5.8 million acres in the CPA (“181 South Area”) for oil and gas leasing, “as soon as practicable after the date of enactment of this Act.”

A SEIS is deemed appropriate to supplement the NEPA documents cited above for these lease sales to consider new circumstances and information arising, among other things, from the Deepwater Horizon blowout and spill. The SEIS analysis will focus on updating the baseline conditions and potential environmental effects of oil and natural gas leasing, exploration, development, and production in the WPA and CPA. The SEIS will also inform future decisions regarding the approval of operations, as well as leasing.

Scoping Process:

Federal, State, and local government agencies, and other interested parties may assist BOEMRE in determining the significant issues and alternatives to be analyzed in the SEIS. Early planning and consultation is important for ensuring that all interests and concerns are communicated to the Department of the Interior for future decisions in the leasing process pursuant to the Outer Continental Shelf Lands Act and regulations at 30 CFR 256. At a minimum, alternatives that will be considered for the sales are no action (i.e., cancel the sale) or to exclude certain areas from the sales. Input is requested on additional measures (e.g., technology or water depth limitations) that would maximize avoidance and minimizes impacts to environmental and socioeconomic resources. Formal consultation with other Federal agencies, the affected States, and the public will be carried out during the NEPA process and will be completed before a final decision is made on the lease sales.

For more information on the proposed sales or the SEIS, you may contact Mr. Gary Goeke, Gulf of Mexico OCS Region, 1201 Elmwood Park Boulevard, Mail Stop 5410, New Orleans, Louisiana 70123-2394 or by calling (504) 736-3233.

3. Description of the Area

The CPA sale area covers approximately 66.45 million acres in 12,409 blocks in the Central portion of GOM (excluding blocks that were previously included within the Eastern Planning Area (EPA) and that are within 100 miles of the Florida coast; or beyond the U.S. Exclusive Economic Zone in the area known as the northern portion of the Eastern Gap). The general area proposed for sale in the WPA covers approximately 28.57 million acres in 5,240 blocks in the western portion of the GOM (excluding whole and partial blocks within the boundary of the Flower Garden Banks National Marine Sanctuary). A map is available on the BOEMRE Web site at http://www.gomr.mms.gov/homepg/lsesale/mau_gom_pa.pdf.

4. Cooperating Agency

The BOEMRE invites other Federal agencies and State, tribal, and local governments to consider becoming cooperating agencies in the preparation of the SEIS. Following the guidelines from the Council of Environmental Quality (CEQ), qualified agencies and governments are those with “jurisdiction by law or special expertise.” Potential cooperating agencies should consider their authority and capacity to assume the responsibilities of a cooperating agency and to remember that an agency's role in the environmental analysis neither enlarges nor diminishes the final decisionmaking authority of any other agency involved in the NEPA process.

Upon request, BOEMRE will provide potential cooperating agencies with an information package with a draft Memorandum of Agreement that includes a schedule with critical action dates and milestones, mutual responsibilities, designated points of contact, and expectations for handling predecisional information. Agencies should also consider the “Factors for Determining Cooperating Agency Status” in Attachment 1 to CEQ's January 30, 2002, Memorandum for the Heads of Federal Agencies: Cooperating Agencies in Implementing the Procedural Requirements of the NEPA. A copy of this document is available at http://ceq.hss.doe.gov/nepa/regs/cooperating/cooperatingagenciesmemorandum.html and http://ceq.hss.doe.gov/nepa/regs/cooperating/cooperatingagencymemofactors.html.

The BOEMRE, as the lead agency, will not provide financial assistance to cooperating agencies. Even if an organization is not a cooperating agency, opportunities will exist to provide information and comments to BOEMRE during the normal public input phases of the NEPA/EIS process. If further information about cooperating agency status is needed, please contact Mr. Gary Goeke at (504) 736-3233.

5. Comments

Public meetings will be held in locations near these areas in to mid November 2010. The meetings are being planned for, but not necessarily limited to:

• Tuesday, November 16, 2010, New Orleans, Louisiana, Hilton New Orleans Airport, 901 Airline Drive Kenner, Louisiana 70062, 1 p.m. CST.

• Wednesday, November 17, 2010, Houston, Texas, Houston Airport Marriott at George Bush Intercontinental, 18700 John F. Kennedy Boulevard, Houston, Texas 77032, 1 p.m. CST.

• Thursday, November 18, 2010, Mobile, Alabama, The Battle House Renaissance Mobile Hotel and Spa, 26 North Royal Street, Mobile, Alabama 36602 1 p.m. CST.

These scoping meetings may also accept comments on the EIS being prepared for the Proposed 2012-2017 5-Year OCS Oil and Gas Leasing Program and the EIS addressing proposed lease sales in the Central and Western GOM in the 2012-2017 OCS Program. The BOEMRE will use and coordinate the NEPA commenting process to satisfy the public involvement process for Section 106 of the National Historic Preservation Act (16 U.S.C. 470f) as provided for in 36 CFR 800.2(d)(3).

Federal, State, local government agencies, and other interested parties are requested to send their written comments on the scope of the SEIS, significant issues that should be addressed, and alternatives that should be considered in one of the following ways:

1. Electronically to the BOEMRE e-mail address: GOMRSEIS@BOEMRE.GOV.

2. In written form, delivered by hand or by mail, enclosed in an envelope labeled “SEIS Comments” to the Regional Supervisor, Leasing and Environment (MS 5410), Bureau of Ocean Energy Management, Regulation and Enforcement, Gulf of Mexico OCS Region, 1201 Elmwood Park Boulevard, New Orleans, Louisiana 70123-2394.

Comments should be submitted no later than January 3, 2011.

Dated: November 10, 2010.
L. Renee Orr,
Acting Associate Director for Offshore Energy and Minerals Management.

[FR Doc. 2010-28868 Filed 11-10-10; 4:15 pm]

BILLING CODE 4310-MR-P